JUDICIAL CONFERENCE OF THE UNITED STATES

90 Days of Public Comment and Hearing for Draft Rules Governing Judicial Conduct and Disability Proceedings

AGENCY: Judicial Conference of the United States, Committee on Judicial Conduct and Disability.

ACTION: Notice of Public Comment on Draft Rules and Hearing.

SUMMARY: The Judicial Conference of the United States Committee on Judicial Conduct and Disability has released draft Rules Governing Judicial Conduct and Disability Proceedings for public comment and notice of hearing.

Notice of Draft Rules for Public Comment and Hearing

On July 16, 2007, the Committee on Judicial Conduct and Disability of the Judicial Conference of the United States released its draft Rules Governing Judicial Conduct and Disability Proceedings for 90 days of public comment, to conclude on October 15, 2007. A link has been added to http://www.uscourts.gov to enable members of the public to review those rules online and comment on them by e-mail.

The draft rules were developed at the direction of the Judicial Conference as a means of ensuring that the Judicial Conduct and Disability Act, 28 U.S.C. 351-364, operates consistently throughout the federal court system. If adopted by the Conference, they will constitute binding guidance for chief judges, circuit judicial councils, and circuit staff on the full spectrum of issues noted in Implementation of the Judicial Conduct and Disability Act of 1980, A Report to the Chief Justice, 239 F.R.D. 116 (September 2006) (“Breyer Committee Report”). Those issues, and the historical and policy context of these rules, are discussed fully in that report, available at http://www.supremecourtus.gov/publicinfo/breyercommitteereport.pdf.

Members of the public who submit comments are asked to provide their name and mailing address, and to identify any entity on whose behalf they are commenting. They should also specify their occupation (federal judge, state judge, lawyer in private practice, government lawyer, professor, or non-lawyer). Although submissions will not receive a response, those that are timely will be considered by the Judicial Conduct and Disability Committee as it prepares the draft rules for Judicial Conference consideration.

Members of the public wishing to comment may also do so at a hearing being planned for that purpose, to commence at 10 a.m. on September 27, 2007, in the U.S. Courthouse at 225 Cadman Plaza East, Brooklyn, New York. Requests to appear and testify at the hearing must be e-mailed by August 27 to the Office of the General Counsel, Administrative Office of the U.S. Courts, at JudicialConductRules@ao.uscourts.gov. Those who submit such requests will be asked to give a written indication of the testimony they intend to provide.

Dated: July 19, 2007.
William R. Burchill, Jr.,
Associate Director and General Counsel, Administrative Office of the United States Courts.

[FR Doc. E7-14268 Filed 7-20-07; 8:45 am]

BILLING CODE 2210-55-P